DEPARTMENT OF COMMERCE

Patent and Trademark Office

Performance Review Board (PRB)

AGENCY: United States Patent and Trademark Office.

ACTION: Notice; Update membership list of the United States Patent and Trademark Office Performance Review Board.

SUMMARY: In conformance with the Civil Service Reform Act of 1978, 5 U.S.C. 4314(c)(4), the United States Patent and Trademark Office announces the appointment of persons to serve as members of its Performance Review Board.

ADDRESSES: Director, Office of Human Resources, United States Patent and Trademark Office, P.O. Box 1450, Alexandria, VA 22313-1450.

FOR FURTHER INFORMATION CONTACT: James Matthews at (571) 272-6200.

SUPPLEMENTARY INFORMATION: The membership of the United States Patent and Trademark Office Performance Review Board is as follows:

Stephen M. Pinkos, Chair, Deputy Under Secretary of Commerce for Intellectual Property and Deputy Director of the United States Patent and Trademark Office, United States Patent and Trademark Office, P.O. Box 1450, Alexandria, VA 22313-1450, Term expires September 30, 2006.

Vickers B. Meadows, Vice Chair, Chief Administrative Officer, United States Patent and Trademark Office, P.O. Box 1450, Alexandria, VA 22313-1450, Term expires September 30, 2007.

John J. Doll, Commissioner for Patents, United States Patent and Trademark Office, P.O. Box 1450, Alexandria, VA 22313-1450, Term expires September 30, 2007.

Lynne G. Beresford, Commissioner for Trademarks, United States Patent and Trademark Office, P.O. Box 1450, Alexandria, VA 22313-1450, Term expires September 30, 2007.

David J. Freeland, Chief Information Officer, United States Patent and Trademark Office, P.O. Box 1450, Alexandria, VA 22313-1450, Term expires September 30, 2007.

James A. Toupin, General Counsel, United States Patent and Trademark Office, P.O. Box 1450, Alexandria, VA 22313-1450, Term expires September 30, 2006.

Lois E. Boland, Director of International Relations, United States Patent and Trademark Office, P.O. Box 1450, Alexandria, VA 22313-1450, Term expires September 30, 2007.

Howard N. Goldberg, Acting Chief Financial Officer, United States Patent and Trademark Office, P.O Box 1450, Alexandria, VA 22313-1450, Term expires September 30, 2006.

Dated: November 2, 2005.
Stephen M. Pinkos,
Acting Under Secretary of Commerce for Intellectual Property and Acting Director of the United States Patent and Trademark Office.

[FR Doc. 05-22279 Filed 11-7-05; 8:45 am]

BILLING CODE 3510-16-P